DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Miller County, Arkansas, and Incorporated Areas
Docket No.: FEMA-B-1017
McKinney Bayou Tributary 2A | Approximately 4,306 feet downstream from the intersection of Sugar Hill Road and McKinney Bayou Tributary 2A | +272 | Unincorporated Areas of Miller County.
| Approximately 630 feet downstream from the intersection of Sugar Hill Road and McKinney Bayou Tributary 2A | +288
* National Geodetic Vertical Datum.
+ North American Vertical Datum.
# Depth in feet above ground.
ADDRESSES
Unincorporated Areas of Miller County
Maps are available for inspection at the County Courthouse, 400 Laurel Street, Texarkana, AR 71854.
Barrow County, Georgia, and Incorporated Areas
Docket No.: FEMA-B-1021
Apalachee River | Approximately 5,345 feet upstream of Loganville Highway | +820 | Unincorporated Areas of Barrow County, City of Auburn.
| Approximately 1,140 feet upstream of CSX Railroad | +905
Cedar Creek | Approximately 1,220 feet downstream of Miles Patrick Road | +820 | Unincorporated Areas of Barrow County, City of Winder.
| Approximately 470 feet downstream of Miles Patrick Road | +822
Tributary No. 1 | At the confluence with Cedar Creek | +822 | Unincorporated Areas of Barrow County, City of Winder.
| Approximately 50 feet downstream of Sims Road | +840
Winder Reservoir | Entire shoreline | +850 | Unincorporated Areas of Barrow County.
* National Geodetic Vertical Datum.
+ North American Vertical Datum.
# Depth in feet above ground.
ADDRESSES
City of Auburn
Maps are available for inspection at City Hall, 1369 4th Avenue, Auburn, GA 30011.
City of Winder
Maps are available for inspection at the Inspections Department, 23 North Jackson Street, Winder, GA 30680.
Unincorporated Areas of Barrow County
Maps are available for inspection at the Annex Building, 223 East Broad Street, Winder, GA 30680.
Richland County, North Dakota, and Incorporated Areas
Docket No.: FEMA-B-1016
Sheyenne River | 50 feet upstream of Gol Bridge | +956 | Unincorporated Areas of Richland County, Township of Barrie.
| 1,696 feet downstream of 151st Avenue SE | +986
Upstream Wahpeton Breakout, Breakout Reach | 100 feet upstream of 182nd Avenue SE | +964 | Township of Center, City of Wahpeton, Township of Summit.
| 64 feet downstream of 182nd Avenue SE | +966
Upstream Wahpeton Breakout, Drain 55 | 49 feet upstream of State Highway 127 | +965 | Township of Summit, Township of Center.
Upstream Wahpeton Breakout, West Breakout Reach | 220 feet upstream of 78th Street SE | +955 | Township of Center, City of Wahpeton.
| 36 feet upstream of 83rd Street SE | +963
Wild Rice River | 1,118 feet upstream of ND Highway 46 | +923 | Township of Walcott.
| 2,466 feet downstream of 60th Street SE | +930
* National Geodetic Vertical Datum.
+ North American Vertical Datum.
# Depth in feet above ground.
ADDRESSES
City of Wahpeton
Maps are available for inspection at 1900 North 4th Street, Wahpeton, ND 58074.
Unincorporated Areas of Richland County
Maps are available for inspection at 418 2nd Avenue North, Wahpeton, ND 58075.
Township of Barrie
Maps are available for inspection at 5515 160th Avenue Southeast, Kindred, ND 58051.
Township of Center
Maps are available for inspection at 17915 84th Street Southeast, Wahpeton, ND 58075.
Township of Summit
Maps are available for inspection at 8945 179th Avenue Southeast, Fairmount, ND 58030.
Township of Walcott
Maps are available for inspection at 5470 County Road #1, Kindred, ND 58051.
Athens County, Ohio, and Incorporated Areas
Docket No.: FEMA-B-1006
Hocking River | Approximately 3,200 feet downstream of State Route 144 | +602 | Village of Coolville.
| Just downstream of State Route 144 | +602
Hocking River | Approximately 16,000 feet upstream of Highway 50 | +625 | Unincorporated Areas of Athens County.
| Approximately 100 feet upstream of South Canaan Road | +629
| At Chessie System Railroad | +649
| Approximately 1,500 feet upstream of Chessie System Railroad | +649
Hocking River | At confluence with Sunday Creek | +661 | Village of Chauncey.
| Approximately 150 feet upstream of Conrail Railroad | +661
Margaret Creek | Approximately 500 feet upstream of State Highway 682 | +649 | Unincorporated Areas of Athens County, City of Athens.
| Approximately 550 feet downstream of State Highway 56 | +649
Sunday Creek | Approximately 240 feet downstream of railroad at Village of Trimble/Athens County Unincorporated Areas boundary | +679 | Unincorporated Areas of Athens County.
| Just upstream of railroad at Village of Trimble/Athens County Unincorporated Areas boundary | +680
Sunday Creek | At State Highway 13 | +661 | Village of Chauncey.
| Approximately 4,600 feet upstream of State Highway 13 | +661
Sunday Creek | Approximately 240 feet downstream of railroad at Village of Trimble/Athens County Unincorporated Areas boundary | +679 | Village of Jacksonville.
| Just upstream of railroad at Village of Trimble/Athens County Unincorporated Areas boundary | +680
Sunday Creek | Just upstream of railroad at Village of Trimble/Athens County Unincorporated Areas boundary | +680 | Village of Trimble.
| Approximately 850 feet upstream of Center Street | +682
* National Geodetic Vertical Datum.
+ North American Vertical Datum.
# Depth in feet above ground.
ADDRESSES
City of Athens
Maps are available for inspection at 28 Curran Drive, Athens, OH 45701.
Unincorporated Areas of Athens County
Maps are available for inspection at 28 Curran Drive, Athens, OH 45701.
Village of Chauncey
Maps are available for inspection at 28 Curran Drive, Athens, OH 45701.
Village of Coolville
Maps are available for inspection at 28 Curran Drive, Athens, OH 45701.
Village of Jacksonville
Maps are available for inspection at 28 Curran Drive, Athens, OH 45701.
Village of Trimble
Maps are available for inspection at 15 Congress Street, Trimble, OH 45782.
Jackson County, Ohio, and Incorporated Areas
Docket No.: FEMA-B-7778
North Pigeon Creek | Approximately 800 feet downstream of Chessie System Railroad | +630 | Unincorporated Areas of Jackson County.
| Approximately 580 feet upstream of County Highway 31 | +641
* National Geodetic Vertical Datum.
+ North American Vertical Datum.
# Depth in feet above ground.
ADDRESSES
Unincorporated Areas of Jackson County
Maps are available for inspection at the GIS Office, 237 East Main Street, Jackson, OH 45640.
Oklahoma County, Oklahoma, and Incorporated Areas
Docket No.: FEMA-B-7752
Cherry Creek | NE 10th Street | +1162 | City of Del City, City of Oklahoma City.
| Approximately 565 feet upstream to intersection with SE 44th Street | +1233
Chisolm Creek | Intersection with Hefner Road | +1169 | City of The Village.
| Approximately 103 feet upstream of Greystone Avenue | +1189
Coffee Creek | Confluence with Deep Fork | +955 | City of Edmond, Town of Arcadia.
| Approximately 5,600 feet upstream of confluence with Deep Fork | +1102
Cowbell Creek Tributary 1 | Confluence with Cowbell Creek | +1089 | City of Edmond.
| Approximately 9,050 feet upstream of confluence with Cowbell Creek | +1089
Crutcho Creek | Approximately 1,650 feet downstream of NE 36th Street | +1149 | City of Midwest City, City of Del City, City of Oklahoma City, Unincorporated Areas of Oklahoma County.
| Approximately 1,800 feet downstream of Sunnylane Road | +1268
Crutcho Creek Trib C (West Crutcho) | Confluence with Crutcho Creek | +1208 | City of Oklahoma City.
| Approximately 800 feet downstream of Sunnylane Road Intersection | +1256
Crutcho Creek Trib E (East Crutcho) | Confluence with Crutcho Creek | +1208 | City of Oklahoma City.
| Approximately 6,450 feet upstream of Air Depot Boulevard | +1243
Crutcho Creek Tributary B | Confluence with Crutcho Creek | +1197 | City of Del City.
| Intersection with Woodview Drive | +1213
Crutcho Creek Tributary D | Confluence with Crutcho Creek | +1171 | City of Midwest City.
| Approximately 5,544 feet upstream of confluence with Crutcho Creek | +1192
Deep Fork | Approximately 100 feet upstream of Luther Avenue | +896 | Town of Luther.
| Approximately 345 feet upstream of Peebly Road | +908
Deep Fork | Confluence with Deep Fork Tributary 3 | +946 | City of Edmond, Town of Arcadia.
| Approximately 3,416 feet upstream of 33rd Street | +963
Deep Fork (Arcadia Lake) | Upstream of Arcadia Dam at the Intersection with East Hefner Road | +1030 | City of Edmond, City of Oklahoma City.
Draper Lake Drainage East | Approximately 400 feet upstream of SE 74th Street | +1239 | City of Oklahoma City
| Approximately 2,100 feet upstream of SE 74th Street | +1265
Draper Lake Drainage West | Approximately 450 feet upstream of SE 74th Street | +1226 | City of Oklahoma City.
| Approximately 2,100 feet upstream of SE 74th Street | +1260
Kuhlman Creek | Approximately 2,000 feet upstream from the intersection with Airport Depot Boulevard | +1226 | City of Midwest City, City of Oklahoma City.
| Confluence with Crutcho Creek | +1999
Opossum Creek | Confluence with Deep Fork | +950 | City of Edmond.
| Approximately 28,100 feet upstream of confluence with Deep Fork | +1029
Silver Creek | At the intersection with Spencer Road | +1155 | City of Midwest City, City of Spencer.
| Approximately 820 feet upstream of Lloyd Drive | +1231
Smith Creek | Confluence with Deep Fork | +907 | Town of Luther, City of Oklahoma City.
| Approximately 26,200 feet upstream of confluence with Crutcho Creek | +929
Soldier Creek Tributary to Crutcho Creek | Confluence with Crutcho Creek | +1167 | City of Midwest City.
| Approximately 26,200 feet upstream of confluence with Crutcho Creek | +1225
Spring Creek | Confluence with Arcadia Lake | +1030 | City of Edmond.
| Intersection with Interstate 35 | +1032
* National Geodetic Vertical Datum.
+ North American Vertical Datum.
# Depth in feet above ground.
ADDRESSES
City of Del City
Maps are available for inspection at 4517 Southeast 29th Street, Del City, OK 73155.
City of Edmond
Maps are available for inspection at 100 East 1st Street, Edmond, OK 73083.
City of Midwest City
Maps are available for inspection at 100 North Midwest City Boulevard, Midwest City, OK 73140.
City of Oklahoma City
Maps are available for inspection at 420 West Main Street, Suite 700, Oklahoma City, OK 73102.
City of Spencer
Maps are available for inspection at 8200 Northeast 36th Street, Spencer, OK 73084.
City of The Village
Maps are available for inspection at 2304 Manchester Drive, The Village, OK 73120.
Town of Arcadia
Maps are available for inspection at 217 North Main Street, Arcadia, OK 73007.
Town of Luther
Maps are available for inspection at 119 South Main Street, Luther, OK 73054.
Unincorporated Areas of Oklahoma County
Maps are available for inspection at 320 Robert S. Kerr Avenue, Suite 101, Oklahoma City, OK 73102.
Sauk County, Wisconsin, and Incorporated Areas
Docket No.: FEMA-B-1018
Baraboo River | Columbia County boundary | +802 | City of Baraboo, City of Reedsburg, Unincorporated Areas of Sauk County, Village of Lavalle, Village of North Freedom, Village of Rock Springs, Village of West Baraboo.
| 3.7 miles downstream of Juneau County boundary | +905
Baraboo River Tributary | 64 feet upstream of State Hwy 33 | +849 | Unincorporated Areas of Sauk County.
| 350 feet upstream of Berkley Boulevard | +880
Clark Creek | Confluence with Baraboo River | +818 | Unincorporated Areas of Sauk County.
| 0.37 mile upstream from bridge at Tower Road | +1234
Devil's Lake Tributary | Confluence with Baraboo River | +819 | City of Baraboo, Unincorporated Areas of Sauk County.
| 0.57 mile upstream from County Highway DL | +979
Hay Creek | 0.56 mile upstream of County Highway F | +909 | Unincorporated Areas of Sauk County.
| 161 ft upstream of County Highway F | +909
Hulbert Creek | 0.32 mile upstream of US Highway 12 | +827 | City of Wisconsin Dells.
| 0.51 mile upstream of Trout Road (Wisconsin Dells) | +831
Pine Creek | 874 feet downstream of Hatchery Road | +858 | Unincorporated Areas of Sauk County.
| Confluence with Skillet Creek | +869
Skillet Creek | Confluence with Pine Creek | +869 | Unincorporated Areas of Sauk County.
| 28 feet upstream of bridge at State Highway 159 | +981
Tributary to Devil's Lake Tributary | Confluence with Devil's Lake Tributary | +871 | Unincorporated Areas of Sauk County.
| 0.67 mile upstream from bridge at State Highway 159 | +1117
Wisconsin River | 6.9 miles upstream of Richland County boundary | +711 | Village of Merrimac, Unincorporated Areas of Sauk County, Village of Prairie du Sac, Village of Sauk City, Village of Spring Green.
| 12.5 miles downstream of Kilbourn Dam | +808
* National Geodetic Vertical Datum.
+ North American Vertical Datum.
# Depth in feet above ground.
ADDRESSES
City of Baraboo
Maps are available for inspection at 135 4th Street, Barboo, WI 53913.
City of Reedsburg
Maps are available for inspection at 134 South Locust Street, Reedsburg, WI 53959.
City of Wisconsin Dells
Maps are available for inspection at 300 La Crosse Street, Wisconsin Dells, WI 53965.
Unincorporated Areas of Sauk County
Maps are available for inspection at 505 Broadway, Baraboo, WI 53913
Village of Lavalle
Maps are available for inspection at 103 West Main Street, La Valle, WI 53941.
Village of Merrimac
Maps are available for inspection at 100 Cook Street, Merrimac, WI 53561.
Village of North Freedom
Maps are available for inspection at 103 North Maple Street, North Freedom, WI 53951.
Village of Prairie Du Sac
Maps are available for inspection at 335 Galena Street, Prairie du Sac, WI 53578.
Village of Rock Springs
Maps are available for inspection at 201 West Broadway Avenue, Rock Springs, WI 53961.
Village of Sauk City
Maps are available for inspection at 726 Water Street, Sauk City, WI 53583.
Village of Spring Green
Maps are available for inspection at 154 North Lexington Street, Spring Green, WI 53588.
Village of West Baraboo
Maps are available for inspection at 500 Cedar Street, Baraboo, WI 53913.

(Catalog of Federal Domestic Assistance No. 97.022, “Flood Insurance.”)

Deborah S. Ingram,
Acting Deputy Assistant Administrator for Mitigation, Mitigation Directorate, Department of Homeland Security, Federal Emergency Management Agency.

[FR Doc. E9-27109 Filed 11-9-09; 8:45 am]

BILLING CODE 9110-12-P